DEPARTMENT OF COMMERCE

National Oceanic and Atmospheric Administration

[Docket No. 040820243-4243-01; I.D. 071204A]

Western Pacific Demonstration Projects

AGENCY: National Marine Fisheries Service (NMFS), National Oceanic and Atmospheric Administration (NOAA), Commerce.

ACTION: Notice of funding availability for Western Pacific Demonstration Project applications.

SUMMARY: NMFS is soliciting applications for financial assistance for Western Pacific Demonstration Projects. Eligible applicants are encouraged to submit projects intended to foster and promote the use of traditional indigenous fishing practices and/or to develop or enhance western Pacific community-based fishing opportunities that benefit the island communities in American Samoa, Guam, Hawaii, and the Northern Mariana Islands. Projects may also request support for research and the acquisition of materials and equipment necessary to carry out such project proposals.

DATES: Project proposals and completed grant applications must be received by 5 p.m. Hawaii standard time on October 25, 2004.

ADDRESSES: Project proposals and grant applications must be sent to: Federal Program Officer for Western Pacific Demonstration Projects, Pacific Islands Region, National Marine Fisheries Service, 1601 Kapiolani Boulevard, Suite 1110, Honolulu, HI 96814.

The full text of the funding opportunity announcement for this NMFS program can be accessed via the Grants.gov web site: http://www.grants.gov. This announcement will also be available at the NOAA web site: http://www.ofa.noaa.gov/%7Eamd/SOLINDEX.HTML or by contacting the program official identified in FOR FURTHER INFORMATION CONTACT.

FOR FURTHER INFORMATION CONTACT: Scott Bloom (NMFS) at 808-973-2937, or by e-mail at Scott.Bloom@noaa.gov; or Charles Ka'ai'ai (Western Pacific Fishery Management Council), 808-522-8220 or by e-mail at Charles.Kaaiai@noaa.gov.

SUPPLEMENTARY INFORMATION: NMFS is soliciting competitive applications for grants to eligible western Pacific communities to support fishery demonstration projects to foster and promote traditional indigenous fishing practices. Funding priorities for Fiscal Years 2004 and 2005 are: (1) community education; (2) processing of fishery products and byproducts; (3) feasibility studies for participation in fishery and fishery related activities; (4) increase opportunities for participation in the Western Pacific Fishery Management Council (Council) activities and process; and (5) demonstrate traditional, cultural fishing practices. A detailed description for each program priority is in the funding opportunity announcement which can be accessed via the Grants.gov web site, the NOAA web site at http://www.ofa.noaa.gov/%7Eamd/SOLINDEX.HTML , or by contacting the program official identified in FOR FURTHER INFORMATION CONTACT. Applications must address one or more of the funding priorities identified above.

The Department of Commerce Pre-award Notification Requirements for Grants and Cooperative Agreements contained in the Federal Register notice of October 1, 2001 (66 FR 49917), as amended by the Federal Register notice published on October 30, 2002 (67 FR 66109), are applicable to this solicitation.

Electronic Access

The full text of the funding opportunity announcement for this NMFS program can be accessed via the Grants.gov web site. This announcement will also be available at the NOAA web site: http://www.ofa.noaa.gov/%7Eamd/SOLINDEX.HTML or by contacting the program official identified under FOR FURTHER INFORMATION CONTACT. This Federal Register notice is available through the NMFS Pacific Islands Region (PIR) home page at: http://swr.nmfs.noaa.gov/pir/index.htm, and the Western Pacific Council home page at: http://www.wpcouncil.org.

Funding Availability

This solicitation announces the availability of $500,000 for Fiscal Year 2004 and prospective funding in the amount of $500,000 that may be available for Fiscal Year 2005. NMFS will select not less than three and not more than five applicants for each fiscal year. Applicants will be selected by NMFS on a competitive basis, as recommended by the Western Pacific Fishery Management Council. Funding for Fiscal Year 2005 is contingent upon the availability of appropriations.

Statutory Authority

The Secretary is authorized to make direct grants to eligible western Pacific communities pursuant to section 111(b) of Pub. L. 104-297, as amended, and published within 16 U.S.C. 1855 note.

CFDA

11.452, Unallied Industry Projects.

Eligibility

Eligible applicants are limited to communities in the Western Pacific Regional Fishery Management Area, as defined at section 305(i)(2)(D) of the Magnuson-Stevens Fishery Conservation and Management Act (Magnuson-Stevens Act), 16 U.S.C. 1855(i)(2)(D). Applicants also must meet the standards for determining eligibility set forth in section 305(i)(2)(B) of the Act, 16 U.S.C. 1855(i)(2)(B). The eligibility criteria developed by the Council and approved by the Secretary to participate in western Pacific community development programs was published in the Federal Register on April 16, 2002 (67 FR 18512 and 18513).

Cost Sharing Requirements

None

Intergovernmental Review

Applications under this program are subject to Executive Order 12372, “Intergovernmental Review of Federal Programs.”

Limitation of Liability

In no event will NOAA or the Department of Commerce be responsible for proposal preparation costs if this program is cancelled because of other agency priorities. Publication of this announcement does not oblige NOAA to award any specific project or to obligate any available funds. Applicants are hereby given notice that funding for the Fiscal Year 2005 program is contingent upon the availability of Fiscal Year 2005 appropriations.

Universal Identifier

Applicants should be aware that, they are required to provide a Dun and Bradstreet Data Universal Numbering System (DUNS) number during the application process. See the October 30, 2002, Federal Register, (67, FR 66177) for additional information. Organizations can receive a DUNS number at no cost by calling the dedicated toll-free DUNS Number request line at 1-866-705-5711 or via the Internet at http://www.dunandbradstreet.com.

National Environmental Policy Act (NEPA)

NOAA must analyze the potential environmental impacts, as required by NEPA, for applicant projects or proposals which are seeking NOAA Federal assistance. Detailed information on NOAA compliance with NEPA can be found at the following web site: http://www.nepa.noaa.gov including NOAA Administrative Order 216-6 for NEPA at http://www.nepa.noaa.gov/NAO216_6_TOC.pdf, and the Council on Environmental Quality implementation regulations at http://ceq.eh.doe.gov/nepa/regs/ceq/toc_ceq.htm.

Consequently, as part of an applicant's package, and under the description of their program activities, applicants are required to provide detailed information on the activities to be conducted, locations, sites, species, and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analysis, applicants may also be requested to assist NOAA in drafting an environmental assessment, if NOAA determines an assessment is required. Applicants will also be required to cooperate with NOAA in identifying and implementing feasible measures to reduce or avoid any identified adverse environmental impacts of their proposal. The failure to do so shall be grounds for the denial of an application.

Evaluation and Selection Procedures

NOAA published its agency-wide solicitation entitled “Omnibus Notice Announcing the Availability of Grant Funds for Fiscal Year 2005” for projects and fellowships/scholarship/internships for Fiscal Year 2005 in the Federal Register on June 30, 2004 (69 FR 39417). The evaluation criteria and selection procedures for projects contained in that omnibus notice are applicable to this solicitation. Copies of the notice are available on the internet at: http://www.ofa.noaa.gov%7Eamd/SOLINDEX.HTML.

Paperwork Reduction Act

This document contains collection-of-information requirements subject to the Paperwork Reduction Act (PRA). The use of Standard Forms 424 and 424A, 424B, and SF-LLL, and CD-346 has been approved by the Office of Management and Budget (OMB) under the respective control numbers 0348-0043, 0348-0044, 0348-040, 0348-0046, and 0605-0001. Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: August 23, 2004.
Rebecca Lent,
Deputy Assistant Administrator for Regulatory Programs, National Marine Fisheries Service.

[FR Doc. 04-19559 Filed 8-25-04; 8:45 am]

BILLING CODE 3510-22-S